SECURITIES AND EXCHANGE COMMISSION

Issuer Delisting; Notice of Application To Withdraw From Listing and Registration; (Hovnanian Enterprises, Inc., Class A Common Stock, $.01 Par Value) File No. 1-08551

March 15, 2001.

Hovnanian Enterprises, Inc., a Delaware corporation (“Issuer”), has filed an application with the Securities and Exchange Commission (“Commission”), pursuant to section 12(d) of the Securities Exchange Act of 1934 (“Act”) ¹ and Rule 12d2-2(d) thereunder,² to withdraw its Class A Common Stock, $.01 par value (“Security”), from listing and registration on the American Stock Exchange (“Amex”).

¹ 15 U.S.C. 781(d).

² 17 CFR 240.12d2-2(d).

The Issuer has applied to have its Security listed on the New York Stock Exchange (“NYSE”). The NYSE approved such application on March 8, 2001. Trading in the Security is expected to commence on the NYSE, and to cease on the Amex, at the opening of business on March 15, 2001.

The Issuer has stated in its application that it has complied with the rules of the Amex governing the withdrawal of its Security and that the application relates solely to the withdrawal of the Security from listing on the Amex and shall have no effect upon its listing on the NYSE or its registration under section 12(b) of the Act.³

³ 15 U.S.C. 781(b).

Any interested person may, on or before April 5, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. 01-6951 Filed 3-20-01; 8:45 am]

BILLING CODE 8010-01-M